NUCLEAR REGULATORY COMMISSION

[Docket No. 50-285]

Omaha Public Power District; Notice of Denial of Amendment to Facility Operating License and Opportunity for Hearing

The U.S. Nuclear Regulatory Commission (NRC or the Commission) has denied a request by Omaha Public Power District (the licensee), for an amendment to Renewed Facility Operating License No. DPR-40 issued to the licensee for operation of the Fort Calhoun Station, Unit No. 1, located in Washington County, Nebraska.

Notice of Consideration of Issuance of this amendment was published in the Federal Register on April 26, 2005 (70 FR 21459).

By letter dated March 31, 2005, the licensee requested an amendment to revise the Renewed Facility Operating License and Technical Specifications (TSs) to increase the license core power. Fort Calhoun Station, Unit No. 1, is currently licensed for a rated thermal power of 1500 megawatts thermal (MWt). Through the use of more accurate feedwater flow measurement equipment, approval was sought to increase this core power by 1.5 percent to 1522 MWt. The power uprate would be based on the use of the CROSSFLOW™ system for determination of main feedwater flow and the associated determination of reactor power through the performance of the power calorimetric currently required by the Fort Calhoun Station TSs.

The OPPD license amendment request to increase core power is based on Westinghouse topical report CENPD-397-P-A, “Improved Flow Measurement Accuracy Using Crossflow Ultrasonic Flow Measurement Technology,” for new and future uses of the CROSSFLOW ultrasonic flow meter. The topical report provided several assessments with respect to that topical report to justify the power increase. Because the licensee's license amendment request is based on CENPD-397-P-A and the NRC staff has suspended its approval, as explained in the NRC staff's letter to Westinghouse dated September 26, 2007, of the use of this topical report in license amendment requests, the NRC staff has concluded that the licensee's request cannot be granted. The licensee was notified of the Commission's denial of the proposed change by a letter dated September 27, 2007.

By 30 days from the date of publication of this notice in the Federal Register, the licensee may demand a hearing with respect to the denial described above. Any person whose interest may be affected by this proceeding may file a written petition for leave to intervene pursuant to the requirements of 10 CFR 2.309.

A request for hearing or petition for leave to intervene must be filed with the Secretary of the Commission, U.S. Nuclear Regulatory Commission, Washington, DC 20555-0001 Attention: Rulemakings and Adjudications Staff, or may be delivered to the Commission's Public Document Room (PDR), located at One White Flint North, Public File Area O1 F21, 11555 Rockville Pike (first floor), Rockville, Maryland, by the above date. A request for hearing or petition for leave to intervene may also be transmitted directly to the Secretary of the Commission by means of facsimile transmission to 301-415-1101 or by e-mail to hearingdocket@nrc.gov. A copy of any petitions should also be sent to the Office of the General Counsel, U.S. Nuclear Regulatory Commission, Washington, DC 20555-0001. Copies of petitions may also be transmitted directly to the Office of the General Counsel by means of facsimile transmission to 301-415-3725 or by e-mail to OGCMailCenter@nrc.gov. A copy of any petitions should also be sent to James R. Curtiss, Esq., Winston & Strawn, 1700 K Street, NW., Washington, DC 20006-3817, Senior Counsel for the licensee.

For further details with respect to this action, see (1) The application for amendment dated March 31, 2005, and (2) the Commission's letter to the licensee dated September 27, 2007.

Documents may be examined, and/or copied for a fee, at the NRC's PDR, located at One White Flint North, Public File Area O1 F21, 11555 Rockville Pike (first floor), Rockville, Maryland, and will be accessible electronically through the Agencywide Documents Access and Management System's (ADAMS) Public Electronic Reading Room link at the NRC Web site http://www.nrc.gov/reading-rm/adams.html. Persons who do not have access to ADAMS or who encounter problems in accessing documents located in ADAMS should contact the NRC PDR Reference staff by telephone at 1-800-397-4209, 301-415-4737, or by e-mail to pdr@nrc.gov.

Dated at Rockville, Maryland, this 27th day of September 2007.
For the Nuclear Regulatory Commission.
Timothy J. McGinty,
Acting Director, Division of Operating Reactor Licensing Office of Nuclear Reactor Regulation.

[FR Doc. 07-4939 Filed 10-4-07; 8:45 am]

BILLING CODE 7590-01-M